DEPARTMENT OF THE INTERIOR

National Park Service

[NPS-WASO-NRNHL-17899; PPWOCRADI0, PCU00RP14.R50000]

National Register of Historic Places; Notification of Pending Nominations and Related Actions

Nominations for the following properties being considered for listing or related actions in the National Register were received by the National Park Service before March 14, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by April 23, 2015. Before including your address, phone number, email address, or other personal identifying information in your comment, you should be aware that your entire comment—including your personal identifying information—may be made publicly available at any time. While you can ask us in your comment to withhold your personal identifying information from public review, we cannot guarantee that we will be able to do so.

Dated: March 18, 2015.
J. Paul Loether,
Chief, National Register of Historic Places/National Historic Landmarks Program.

ARIZONA

Cochise County

Bowie School District No. 14, 315 W. 5th St., Bowie, 15000168

CALIFORNIA

Los Angeles County

Federal Building, 15000 Aviation Blvd., Hawthorne, 15000169

COLORADO

Park County

Tarryall Rural Historic Landscape, Cty. Rd. 77, Mileposts 2.4 to 41.8, Jefferson, 15000170

San Juan County

Sound Democrat Mill and Mine and Silver Queen Mine, (Mining Resources of San Juan County, Colorado MPS) Address Restricted, Silverton, 15000171

MARYLAND

Baltimore Independent city

McDonogh Place Historic District, N. Broadway, E. Eager, McDonogh & E. Chase Sts., Baltimore, 15000172

Charles County

Mallows Bay—Widewater Historic and Archeological District, Off Charles County shoreline at Sandy Pt., Nanjemoy, 15000173

MISSOURI

St. Louis Independent city

Woodward and Tierman Printing Company Building, 1519 Tower Grove Ave., St. Louis, 15000174

NEW HAMPSHIRE

Coos County

Burgess, George E., School—Notre Dame High Schol, 411 School St., Berlin, 15000175

NEW JERSEY

Sussex County

Waterloo Village (Boundary Increase), Musconetcong R. & Cty. Rd. 604, Byram Township, 15000176

NEW YORK

Bronx County

Crotona Play Center, 1700 Fulton Ave., Bronx, 15000177

Suffolk County

Sylvester Manor, 80 N. Ferry Rd., Shelter Island, 15000178

NORTH CAROLINA

Ashe County

Ashe County Memorial Hospital, (Ashe County, North Carolina, c. 1799-1955 MPS) 410 McConnell St., Jefferson, 15000179

Beaufort County

Belhaven Commercial Historic District, 260-292 E. Main & 246-288, 251-279 Pamlico Sts., Belhaven, 15000180

Guilford County

Willis, James H. and Anne B., House, 707 Blair St., Greensboro, 15000181

Harnett County

Erwin Commercial Historic District, 100 Denim Drive, 101-127 E. H & 103-111 S. 13th Sts., Erwin, 15000182

Mecklenburg County

Outen, R.F., Pottery, 430 Jefferson St., Matthews, 15000183

OHIO

Hamilton County

United States Post Office and Court House, 100 E. 5th St., Cincinnati, 15000184

Ottawa County

Perry's Victory and International Peace Memorial (Boundary Increase), 93 Delaware Ave., Put-in-Bay, 15000185

TENNESSEE

Grundy County

Christ Episcopal Church, 530 10th St., Tracy City, 15000186

Shelby County

One Hundred North Main Building, 100 N. Main St. Mall, Memphis, 15000187

WEST VIRGINIA

Marion County

Dunbar School, 103 High St., Fairmont, 15000188

WISCONSIN

Sheboygan County

Prange, Eliza, House, 605 Erie Ave., Sheboygan, 15000189

WYOMING

Teton County

Hardeman Barns, 5450 W. WY 22, Wilson, 15000190

[FR Doc. 2015-08007 Filed 4-7-15; 8:45 am]

BILLING CODE 4312-51-P